INTERNATIONAL TRADE COMMISSION

[Investigation No. 731-TA-1047 (Second Review)]

Ironing Tables and Certain Parts Thereof From China

Determination

On the basis of the record¹ developed in the subject five-year review, the United States International Trade Commission (“Commission”) determines, pursuant to the Tariff Act of 1930, that revocation of the antidumping duty order on ironing tables and certain parts thereof from China would be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. § 1675(c)), instituted this review on May 1, 2015 (80 FR 24968) and determined on August 4, 2015 that it would conduct an expedited review (80 FR 50027, August 18, 2015).

The Commission made this determination pursuant to section 751(c) of the Tariff Act of 1930 (19 U.S.C. § 1675(c)). It completed and filed its determination in this review on September 28, 2015. The views of the Commission are contained in USITC Publication 4568 (September 2015), entitled Ironing Tables and Certain Parts Thereof from China: Investigation No. 731-TA-1047 (Second Review).

By order of the Commission.
Issued: September 28, 2015.
William R. Bishop,
Supervisory Hearings and Information Officer.

[FR Doc. 2015-25061 Filed 10-1-15; 8:45 am]

BILLING CODE 7020-02-P